DEPARTMENT OF TRANSPORTATION

Federal Aviation Administration

Fifth Meeting: RTCA Special Committee 219: Attitude and Heading Reference System (AHRS)

AGENCY: Federal Aviation Administration (FAA), Department of Transportation (DOT).

ACTION: Notice of RTCA Special Committee 219: Attitude and Heading Reference System (AHRS).

SUMMARY: The FAA is issuing this notice to advise the public of a meeting of RTCA Special Committee 219: Attitude and Heading Reference System (AHRS).

DATES: The meeting will be held September 14-16, 2010 from 9 a.m. to 5 p.m.

ADDRESSES: The meeting will be held at RTCA, Inc., 1828 L Street, NW., Suite 805, Washington, DC 20036.

FOR FURTHER INFORMATION CONTACT: RTCA Secretariat, 1828 L Street, NW., Suite 805, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 219: Attitude and Heading Reference System (AHRS) meeting. The agenda will include:

• Welcome/Introductions/Administrative Remarks.

• Agenda overview.

• Review/Approve Fourth Meeting Summary, RTCA Paper No. 087-10/SC219-008.

• Review Summary from last working group meeting.

• Review current state of the final document.

• Plan working group sessions for the week.

• Working group sessions.

• Reassemble final document for distribution outside of committee.

• Re-evaluate dates, location, and agendas for next couple of working group and Plenary meetings.

• Other business.

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on August 9, 2010.
Francisco Estrada C.,
RTCA Advisory Committee.

[FR Doc. 2010-19991 Filed 8-12-10; 8:45 am]

BILLING CODE 4910-13-P